DEPARTMENT OF DEFENSE

Office of the Secretary

[Docket ID DoD-2021-OS-0126]

Proposed Collection; Comment Request

AGENCY: Office of the Under Secretary of Defense for Personnel and Readiness, Department of Defense (DoD).

ACTION: Information collection notice.

SUMMARY: In compliance with the Paperwork Reduction Act of 1995, the Office of the Under Secretary of Defense for Personnel and Readiness announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 22, 2022.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Human Resources Activity, 4800 Mark Center Drive, Suite 08F05, Alexandria, VA 22350, LaTarsha Yeargins, 571-372-2089.

SUPPLEMENTARY INFORMATION:

Title; Associated Form; and OMB Number: COVID-19 Vaccination Attestation Form; DD Form 3150; OMB Control Number 0704-0613.

Needs and Uses: DoD is seeking approval of the collection of information addressed by DD Form 3150 “Certification of Vaccination”. This information is being requested in order to promote the safety of individuals in Federal buildings and on DoD installations, consistent with the COVID-19 Workplace Safety: Agency Model Safety Principles established by the Safer Federal Workforce Task Force and guidance from the CDC and the Occupational Safety and Health Administration and all applicable government FAQs pertaining to the government's response to COVID 19. This information will be used by DoD staff charged with implementing and enforcing workplace safety protocols and is required for ensuring compliance with the requirement for attestation by all civilian employees, on-site contractors, and official visitors. Individuals who refuse to comply with any associated requirements based on the responses to DD Form 3150 may be refused access to the Federal or DoD installation or facility to which access is sought.

Affected Public: Individuals or households.

Annual Burden Hours: 116,667 hours.

Number of Respondents: 3,500,000.

Responses per Respondent: 1.

Annual Responses: 3,500,000.

Average Burden per Response: 2 minutes.

Frequency: On occasion.

Dated: December 16, 2021.
Kayyonne T. Marston,
Alternate OSD Federal Register Liaison Officer, Department of Defense.

[FR Doc. 2021-27685 Filed 12-21-21; 8:45 am]

BILLING CODE 5001-06-P